DEPARTMENT OF COMMERCE

National Oceanic and Atmospheric Administration

Proposed Boundary Expansion for the Narragansett Bay National Estuarine Research Reserve

AGENCY: Office for Coastal Management, National Ocean Service, National Oceanic and Atmospheric Administration, U.S. Department of Commerce.

ACTION: Notice of proposed boundary expansion and availability of a draft environmental assessment; request for comments.

SUMMARY: The National Oceanic and Atmospheric Administration (NOAA) is considering a request to expand the boundary of the Narragansett Bay National Estuarine Research Reserve (Narragansett Bay NERR or the Reserve) and is soliciting comments from the public on the proposed boundary expansion. The public is also invited to comment on the draft environmental assessment for the proposed boundary expansion.

DATES: Comments must be received at the appropriate address (see ADDRESSES) on or before April 14, 2021.

ADDRESSES: The draft environmental assessment describing the proposed boundary expansion can be downloaded or viewed at coast.noaa.gov/czm/compliance/. The document is also available by sending a written request to the point of contact identified below (see FOR FURTHER INFORMATION CONTACT).

You may submit comments by any of the following methods:

Electronic Submission: Submit all electronic public comments by email to Adrianne.Harrison@noaa.gov.

Mail: Submit written comments to Patmarie S. Nedelka, Office for Coastal Management, 1305 East-West Highway, N/ORM, 10th Floor, Silver Spring, MD 20910.

Comments submitted by any other method or after the comment period may not be considered. All comments are part of the public record and may be publicly accessible. Any personal identifying information (e.g., name or address) submitted voluntarily by the sender may also be accessible. NOAA will accept anonymous comments.

FOR FURTHER INFORMATION CONTACT: Adrianne Harrison of NOAA's Office for Coastal Management on contract with Lynker Inc, by email at Adrianne.Harrison@noaa.gov, phone at 603-862-4272, or mail at: Patmarie S. Nedelka, Office for Coastal Management, 1305 East-West Highway, N/ORM, 10th Floor, Silver Spring, MD 20910.

SUPPLEMENTARY INFORMATION:

I. Background

The Rhode Island Department of Environmental Management, as lead agency for managing the Narragansett Bay NERR, has requested approval to expand the reserve's geographic boundary by adding 1 new parcel to the existing approved boundary. Pursuant to 15 CFR 921.33(a), NOAA may require public notice, including notice in the Federal Register and an opportunity for public comment, before approving a boundary or management plan change. In addition, boundary changes involving the acquisition of properties not listed in the reserve's management plan or final environmental impact statement require public notice and the opportunity for comment. Since the Little Property parcel was not evaluated in the reserve's original environmental impact statement, NOAA has developed an environmental assessment to analyze the effects of the requested change, and is publishing notice of the availability of this assessment for public review and comment.

II. NOAA Proposed Action and Alternatives

NOAA is releasing a draft environmental assessment, prepared in accordance with section 102(2)(C) of the National Environmental Policy Act (NEPA) of 1969, as amended, 42 U.S.C. 4332(2)(C), and the Council on Environmental Quality Regulations for Implementing the Procedural Provisions of NEPA (40 CFR parts 1500-1508). NOAA's proposed action would be to approve a change in the boundary of the Narragansett Bay NERR to add 1 parcels to the current boundary.

The draft environmental assessment identifies and assesses potential environmental impacts associated with the proposed boundary expansion, and identifies a preferred alternative and a no action alternative. The preferred alternative would add 1 parcels to the reserve's boundary, which would result in a net increase in size of 103 acres. As a result, NOAA believes the proposed boundary expansion would (1) fill in a gap in the Narragansett Bay NERR near the center of Prudence Island, (2) provide a more encompassing area for the Reserve's research, monitoring, and education programs, and (3) provide an opportunity for more coordination and integrated ecosystem management that would help the Reserve attain its mission of practicing and promoting coastal and estuarine stewardship through innovative research and education, using a system of protected areas. Therefore, NOAA prefers the proposed boundary expansion over the no action alternative.

Authority: 16 U.S.C. 1451 et seq.; 15 CFR 921.33.

Keelin S. Kuipers,
Deputy Director, Office for Coastal Management, National Ocean Service, National Oceanic and Atmospheric Administration.

[FR Doc. 2021-05285 Filed 3-12-21; 8:45 am]

BILLING CODE 3510-NK-P